DEPARTMENT OF HOMELAND SECURITY

Coast Guard

[USCG-2008-0052]

Information Collection Request to Office of Management and Budget; OMB; Control Number: 1625-NEW

AGENCY: Coast Guard, DHS.

ACTION: Sixty-day notice requesting comments.

SUMMARY: In compliance with the Paperwork Reduction Act of 1995, the U.S. Coast Guard intends to submit an Information Collection Request (ICR) and Analysis to the Office of Management and Budget (OMB) requesting an approval for the following collection of information: 1625-NEW, Proceedings of the Marine Safety and Security Council, the Coast Guard Journal of Safety and Security at Sea; online subscription request form. Before submitting this ICR to OMB, the Coast Guard is inviting comments as described below.

DATES: Comments must reach the Coast Guard on or before May 6, 2008.

ADDRESSES: To prevent duplicate submissions to the docket [USCG-2008-0052], please submit them by only one of the following means:

(1) Online: http://www.regulations.gov.

(2) Mail: Docket Management Facility (DMF) (M-30), U.S. Department of Transportation, West Building Ground Floor, Room W12-140, 1200 New Jersey Avenue, SE., Washington, DC 20590-0001.

(3) Hand deliver between the hours of 9 a.m. and 5 p.m., Monday through Friday, except Federal holidays. The telephone number is 202-366-9329.

(4) Fax: 202-493-2251.

The DMF maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

A copy of the complete ICR is available through this docket on the Internet at http://www.regulations.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

We encourage you to respond to this request by submitting comments and related materials. We will post all comments received, without change, to http://www.regulations.gov. They will include any personal information you provide. We have an agreement with DOT to use their DMF. Please see the paragraph on DOT's “Privacy Act Policy” below.

Submitting comments: If you submit a comment, please include the docket number [USCG-2008-0052], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: Go to http://www.regulations.gov to view documents mentioned in this notice as being available in the docket. Enter the docket number [USCG-2008-0052] in the Search box, and click, “Go>>”. You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or by visiting http://DocketsInfo.dot.gov.

Information Collection Request

Title: Proceedings of the Marine Safety and Security Council, the Coast Guard Journal of Safety and Security at Sea.

OMB Control Number: 1625-NEW.

Summary: As a service to its potential subscribers, Proceedings seeks to add an online subscription request form to its Web site. Under Title 33 CFR 1.05-5, the Marine Safety and Security Council is composed of senior Coast Guard officials and acts as policy advisor to the Commandant and is the focal point of the Coast Guard regulatory system. The principal objective of Proceedings of the Marine Safety and Security Council, the Coast Guard Journal of Safety and Security at Sea is to inform the maritime industry it serves about the Coast Guard's operations and marine safety, security, environmental protection policies, regulations, and program goals.

Need: Having access to an online subscription request form would reduce the burden of subscribing to Proceedings.

Respondents: Any person who requests Proceedings of the Marine Safety & Security Council, the Coast Guard Journal of Safety & Security at Sea online.

Frequency: On demand.

Burden Estimate: The estimated burden is 415 hours annually.

Dated: February 27, 2008.
D.T. Glenn,
Rear Admiral, U.S. Coast Guard, Assistant Commandant for Command, Control, Communications, Computers and Information Technology.

[FR Doc. E8-4448 Filed 3-6-08; 8:45 am]

BILLING CODE 4910-15-P